DEPARTMENT OF COMMERCE

National Oceanic and Atmospheric Administration

RIN 0648-XV025

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Management Strategy Evaluation (MSE) Steering Committee to consider actions affecting New England fisheries in the exclusive economic zone (EEZ). Recommendations from this group will be brought to the full Council for formal consideration and action, if appropriate.

DATES: This meeting will be held on Wednesday, September 4, 2019 at 9:30 a.m.

ADDRESSES:

Meeting address: The meeting will be held at the Hyatt Place, 50 Forbes Road, Braintree, MA 02184; telephone: (781) 848-0600.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The steering committee will discuss terms of reference and types of recommendations for structuring an MSE process that focuses on a Georges Bank Fishery Ecosystem Plan. These recommendations will be made to the Council in December and will include approaches to soliciting stakeholder engagement and facilitating stakeholder participation in the MSE effort. Summaries of previous stakeholder-engaged MSE workshops and the Council's example Fishery Ecosystem Plan (eFEP) framework will be presented at this meeting. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 8, 2019.
Diane M. DeJames-Daly,
Acting Deputy Director, Office of Sustainable Fisheries, National Marine Fisheries Service.

[FR Doc. 2019-17304 Filed 8-12-19; 8:45 am]

BILLING CODE 3510-22-P